DEPARTMENT OF THE INTERIOR

Bureau of Ocean Energy Management, Regulation and Enforcement

Docket ID No. BOEM-2011-0036]

BOEMRE Information Collection Activity: Geological and Geophysical (G&G) Explorations of the OCS, Revision of a Collection; Comment Request

AGENCY: Bureau of Ocean Energy Management, Regulation and Enforcement (BOEMRE), Interior.

ACTION: Notice of a revision of an information collection.

SUMMARY: To comply with the Paperwork Reduction Act of 1995 (PRA), BOEMRE is inviting comments on a collection of information that we will submit to the Office of Management and Budget (OMB) for review and approval. The information collection request (ICR) concerns the paperwork requirements in the regulations for Geological and Geophysical (G&G) Explorations of the Outer Continental Shelf, and in particular, we are revising BOEMRE Form MMS-0327 to adapt to new advances in technology (digital options) and clarifying requirements for environmental compliance.

DATES: Submit written comments by August 29, 2011.

FOR FURTHER INFORMATION CONTACT: Cheryl Blundon, Regulations and Standards Branch at (703) 787-1607. You may also contact Cheryl Blundon to obtain a copy, at no cost, of the regulation and form that requires the subject collection of information. Also, you can view or print the form via regulations.gov. See the instructions listed in the ADDRESSES section.

ADDRESSES: You may submit comments by either of the following methods listed below.

• Electronically: go to http://www.regulations.gov. In the entry titled Enter Keyword or ID, enter BOEM-2011-0036 then click search. Follow the instructions to submit public comments and view supporting and related materials available for this collection. BOEMRE will post all comments.

• E-mail cheryl.blundon@boemre.gov. Mail or hand-carry comments to the Department of the Interior; Bureau of Ocean Energy Management, Regulation and Enforcement; Attention: Cheryl Blundon; 381 Elden Street, MS-4024; Herndon, Virginia 20170-4817. Please reference ICR 1010-0048 in your comment and include your name and return address.

SUPPLEMENTARY INFORMATION: Title: 30 CFR Part 251, Geological and Geophysical (G&G) Explorations of the Outer Continental Shelf.

BOEMRE Form(s): MMS-0327.

OMB Control Number: 1010-0048.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner that is consistent with the need to make such resources available to meet the Nation's energy needs as rapidly as possible; to balance orderly energy resource development with protection of human, marine, and coastal environments; to ensure the public a fair and equitable return on the resources of the OCS; and to preserve and maintain free enterprise competition.

The OCS Lands Act (43 U.S.C. 1340) also states that “any person authorized by the Secretary may conduct geological and geophysical explorations in the [O]uter Continental Shelf, which do not interfere with or endanger actual operations under any lease maintained or granted pursuant to this OCS Lands Act, and which are not unduly harmful to aquatic life in such area.” The section further requires that permits to conduct such activities may only be issued if it is determined that the applicant is qualified; the activities are not polluting, hazardous, or unsafe; they do not interfere with other users of the area; and do not disturb a site, structure, or object of historical or archaeological significance. Applicants for permits are required to submit BOEMRE Form MMS-0327 to provide the information necessary to evaluate their qualifications.

The OCS Lands Act (43 U.S.C. 1352) further requires that certain costs be reimbursed to the parties submitting required G&G information and data. Under the OCS Lands Act, permittees are to be reimbursed for the costs of reproducing any G&G data required to be submitted. Permittees are to be reimbursed also for the reasonable cost of processing geophysical information required to be submitted when processing is in a form or manner required by the Director of BOEMRE and is not used in the normal conduct of the business of the permittee.

The Independent Offices Appropriations Act (31 U.S.C. 9701), the Omnibus Appropriations Bill (Pub. L. 104-133, 110 Stat. 1321, April 26, 1996), and OMB Circular A-25, authorize Federal agencies to recover the full cost of services that confer special benefits. Under the Department of the Interior's implementing policy, BOEMRE is required to charge the full cost for services that provide special benefits or privileges to an identifiable non-Federal recipient above and beyond those that accrue to the public at large. The G&G permits are subject to cost recovery, and BOEMRE regulations specify the filing fee for the application.

Regulations at 30 CFR part 251 implement these statutory requirements. We use the information to ensure there is no environmental degradation, personal harm or unsafe operations and conditions, damage to historical or archaeological sites, or interference with other uses; to analyze and evaluate preliminary or planned drilling activities; to monitor progress and activities in the OCS; to acquire G&G data and information collected under a Federal permit offshore; and to determine eligibility for reimbursement from the government for certain costs. The information is necessary to determine if the applicants for permits or filers of notices meet the qualifications specified by the OCS Lands Act. BOEMRE uses information collected to understand the G&G characteristics of oil- and gas-bearing physiographic regions of the OCS. It aids the Secretary in obtaining a proper balance among the potentials for environmental damage, the discovery of oil and gas, and adverse impacts on affected coastal States. Information from permittees is necessary to determine the propriety and amount of reimbursement. Also, we are revising BOEMRE Form MMS-0327 to adapt to new advances in technology (electronic options) and clarifying requirements for environmental compliance.

We will protect information from respondents considered proprietary according to the Freedom of Information Act (5 U.S.C. 552) and its implementing regulations (43 CFR part 2), the Federal Oil and Gas Royalty Management Act of 1982 (30 U.S.C. 1733), and under regulations at 30 CFR parts 250, 251, and 252.

No items of a sensitive nature are collected. Responses are mandatory.

Frequency: On occasion, annual; and as specified in permits.

Description of Respondents: Potential respondents comprise Federal OCS oil, gas, and sulphur permittees or notice filers.

Estimated Reporting and Recordkeeping Hour Burden: The currently approved annual reporting burden for this collection is 1,246 hours. The following chart details the individual components and respective burden estimates of this ICR. In calculating the burdens, we assumed that respondents perform certain requirements in the normal course of their activities. We consider these to be usual and customary and took that into account in estimating the burden.

Citation 30 CFR 251 | Reporting and recordkeeping requirement | Hour burden: Non-hour cost burden
30 CFR 251.1 through 251.6
251.4(a), (b); 251.5(a), (b), (d); 251.6; 251.7 | Apply for permits (BOEMRE Form MMS-0327) to conduct G&G exploration, including deep stratigraphic tests/revisions when necessary | 3 $2,012 application fee.
251.4(b); 251.5(c), (d); 251.6 | File notices to conduct scientific research activities, including notice to BOEMRE prior to beginning and after concluding activities | 1
251.6(b); 251.7(b)(5) | Notify BOEMRE if specific actions should occur; report archaeological resources (no instances reported since 1982) | 1
30 CFR 251.7 through 251.9
251.7 | Submit information on test drilling activities under a permit, including BOEMRE Forms MMS-0123 and MMS-0123S. Burden included under 1010-0141 | 0
251.7(c) | Enter into agreement for group participation in test drilling, including publishing summary statement; provide BOEMRE copy of notice/list of participants (no agreements submitted since 1989) | 1
251.7(d) | Submit bond(s) on deep stratigraphic test. Burden included under 30 CFR part 256 (1010-0006) | 0
251.8(a) | Request reimbursement for certain costs associated with BOEMRE inspections (no requests in many years) | 1
251.8(b), (c) | Submit modifications to, and status/final reports on, activities conducted under a permit | 2
251.9(c) | Notify BOEMRE to relinquish a permit | 1/2
30 CFR 251.10 through 251.13
251.10(c) | File appeals. Exempt under 5 CFR 1320.4(a)(2), (c) | 0
251.11; 251.12 | Notify BOEMRE and submit G&G data and/or information collected under a permit and/or processed by permittees or 3rd parties, including reports, logs or charts, results, analyses, descriptions, etc | 4
251.13 | Request reimbursement for certain costs associated with reproducing data/information | 2
30 CFR 251.14
251.14(a) | Submit comments on BOEMRE intent to disclose data and/or information to the public | 1
251.14(c)(2) | Submit comments on BOEMRE intent to disclose data and/or information to an independent contractor/agent | 1
251.14(c)(4) | Contractor/agent submits written commitment not to sell, trade, license, or disclose data and/or information without BOEMRE consent | 1
251.1-251.14 | General departure and alternative compliance requests not specifically covered elsewhere in part 251 regulations | 1
Extension for Permit Form & Recordkeeping
BOEMRE Permit Form (Form MMS-0327) | Request extension of permit time period | 1
| Retain G&G data/information for 10 years and make available to BOEMRE upon request | 1

Estimated Reporting and Recordkeeping Non-Hour Cost Burden: We have identified one non-hour cost burden for this collection. In § 251.5, BOEMRE charges a $2,012 G&G application fee. We have identified no other non-hour paperwork cost burden.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, email address, or other personal identifying information in your comment, you should be aware that your entire comment—including your personal identifying information—may be made publicly available at any time. While you can ask us in your comment to withhold your personal identifying information from public review, we cannot guarantee that we will be able to do so.

BOEMRE Information Collection Clearance Officer: Arlene Bajusz (703) 787-1025.

Dated: June 1, 2011.
Doug Slitor,
Acting Chief, Office of Offshore Regulatory Programs.

[FR Doc. 2011-16438 Filed 6-29-11; 8:45 am]

BILLING CODE 4310-MR-P